DEPARTMENT OF HOMELAND SECURITY

Office of the Secretary

Notice Announcing Public Workshop

AGENCY: Privacy Office, Department of Homeland Security (DHS).

ACTION: Notice Announcing Public Workshop.

SUMMARY: The Department of Homeland Security Privacy Office will host a public workshop, CCTV: Developing Privacy Best Practices.

DATES: The two-day workshop will be held on December 17, 2007, from 8:30 a.m. to 5 p.m. and on December 18, 2007, from 8:30 a.m. to 12:30 p.m.

ADDRESSES: The workshop will be held in the Gallery Ballroom at the Hilton Arlington Hotel, Arlington, VA (Ballston Metro).

FOR FURTHER INFORMATION CONTACT: Toby Milgrom Levin, DHS Privacy Office, Department of Homeland Security, Washington, DC 20528; by telephone 703-235-0780; by facsimile 703-235-0790; or by e-mail at privacyworkshop@dhs.gov.

SUPPLEMENTARY INFORMATION: The Department of Homeland Security (DHS) Privacy Office is holding a public workshop to bring together leading government, academic, policy, and international experts to discuss the impact on privacy and civil liberties of closed circuit television (CCTV). This workshop will provide a forum to begin a discussion to inform development of best practices for the use of CCTV by government agencies. This public workshop is particularly timely given that government agencies at all levels are expressing interest in the use of CCTV, and DHS has awarded a number of grants that have been used to facilitate its use. The workshop will explore how CCTV technology can be used in a manner that respects the privacy and civil liberties of the American public. Development of best practices for the use of this technology will aid in building public trust that privacy and civil liberties will be considered when making decisions to use CCTV. The two-day workshop will consist of a series of panel discussions exploring a variety of perspectives regarding the use of CCTV, including technology, law enforcement, community, international, and legal and policy perspectives. The workshop will culminate in a panel discussion on best practices for CCTV, during which panelists will share their various perspectives and individual recommendations. Workshop attendees will have an opportunity to ask questions after each panel.

The workshop is open to the public, and no fee is required for attendance.

Topics for Comment: To develop a comprehensive record regarding best practices for CCTV, the DHS Privacy Office also invites interested parties to submit written comments as described below. Comments should be received on or before Friday, November 30, 2007, and should be as specific as possible. The Privacy Office is particularly interested in receiving comments on the following topics:

1. Are there existing state, local, or international programs that have developed privacy and civil liberties guidelines for CCTV that can serve as resources for the development of best practices?

2. How can CCTV systems be designed in a manner that respects privacy and civil liberties?

3. What measures are necessary to protect privacy and civil liberties when governments have the ability to link into privately owned CCTV networks or have access to images and footage that such networks have captured?

4. How can Privacy Impact Assessments (PIAs) be used as a means of protecting privacy in this area? What would make for an effective PIA? How can government agencies incorporate the findings of PIAs into their CCTV networks and guidelines?

5. What are the privacy and civil liberties best practices you would recommend for government use of CCTV?

All submissions received must include the docket number: DHS-2007-0076. Written comments may be submitted by any one of the following methods:

• E-mail: privacyworkshop@dhs.gov. Include “CCTV Workshop Comment” in the subject line of the message.

• Facsimile: 703-235-0442.

• Mail: Toby Milgrom Levin, Department of Homeland Security, Washington, DC 20528.

All written comments received will be posted without alteration on the http://www.dhs.gov/privacy Web page for this workshop, including any personal contact information provided.

Registration: In order to assist us in planning for the workshop, we ask that attendees register in advance. To register, please send an e-mail to privacyworkshop@dhs.gov with “CCTV Workshop Registration” in the subject line, and your name and organizational affiliation, if any, in the body of the e-mail. Alternatively, you may call 703-235-0780 to register and to provide the DHS Privacy Office with your name and organizational affiliation, if any. The Privacy Office will only use this information for purposes of planning this workshop and to contact you in the event of any logistical changes. An agenda and logistical information will be posted on the workshop web page shortly before the event. A written transcript will be posted on the web page following the event.

Special Assistance: Persons with disabilities who require special assistance should indicate this in their registration request and are encouraged to identify anticipated special needs as early as possible.

Dated: November 5, 2007.
Hugo Teufel III,
Chief Privacy Officer, Department of Homeland Security.

[FR Doc. E7-22127 Filed 11-9-07; 8:45 am]

BILLING CODE 4410-10-P